DEPARTMENT OF ENERGY

Federal Energy Regulatory Commission

[Projects Nos. 10461-002 and 10462-002, New York]

Erie Boulevard Hydropower L.P.; Notice of Availability of Final Environmental Assessment

August 8, 2002.

In accordance with the National Environmental Policy Act of 1969 and the Federal Energy Regulatory Commission's (Commission) regulations, 18 CFR part 380 (Order No. 486, 52 FR 47897), the Office of Energy Projects has reviewed the applications for original licenses for Erie Boulevard Hydropower L.P.'s (Erie's) Parishville Hydroelectric Project and Allens Falls Hydroelectric Project, both located on the West Branch St. Regis River in St. Lawrence County, New York, and has prepared a Final Environmental Assessment (FEA) for the projects. Neither project occupies any lands of the United States.

The FEA contains the Commission staff's analysis of the potential environmental impacts of the projects and has concluded that licensing the projects, with appropriate environmental protective measures, would not constitute a major federal action that would significantly affect the quality of the human environment.

A copy of the FEA is on file with the Commission and is available for public inspection. Additional information about the project is available from the Commission's Office of External Affairs, at (202) 208-1088 or on the FERC Internet Web site (http://www.ferc.gov) using the FERRIS link. Click on the FERRIS link, enter the docket number excluding the last three digits in the Docket Number field. Be sure you have selected an appropriate date range. For assistance with FERRIS, the FERRIS helpline can be reached at (202) 502-8222, TTY (202) 208-1659. The FERRIS link on the FERC Internet Web site also provides access to the texts of formal documents issued by the Commission, such as orders, notices, and rulemakings.

For further information, contact Peter Leitzke at (202) 502-6059.

Linwood A. Watson, Jr.,
Deputy Secretary.

[FR Doc. 02-20733 Filed 8-14-02; 8:45 am]

BILLING CODE 6717-01-P